ENVIRONMENTAL PROTECTION AGENCY

40 CFR Part 52

[EPA-R05-OAR-2022-0295; FRL-10162-03-R5]

Air Plan Approval; Michigan; Revisions to Part 1 and 2 Rules; Withdrawal of Direct Final Rule

AGENCY: Environmental Protection Agency (EPA).

ACTION: Withdrawal of direct final rule.

SUMMARY: Due to the receipt of an adverse comment, the Environmental Protection Agency (EPA) is withdrawing the September 27, 2022, direct final rule approving revisions to Michigan Air Pollution Control Rules Part 1 Definitions, and Part 2 Air Use Approval for inclusion in the Michigan State Implementation Plan (SIP) and the removal of rules from the SIP that are part of Michigan's title V Renewable Operating Permit program, and rules that have been moved to other sections of the Michigan Administrative Code and approved into the Michigan SIP. EPA will address the comment in a subsequent final action based upon the proposed action also published on September 27, 2022. EPA will not institute a second comment period on this action.

DATES: As of November 15, 2022, EPA withdraws the direct final rule published at 87 FR 58453 on September 27, 2022.

FOR FURTHER INFORMATION CONTACT: Constantine Blathras, Environmental Engineer, Air Permits Section, Air Programs Branch (AR18J), Environmental Protection Agency, Region 5, 77 West Jackson Boulevard, Chicago, Illinois 60604, (312) 886-0671, Blathras.constantine@epa.gov. The EPA Region 5 office is open from 8:30 a.m. to 4:30 p.m., Monday through Friday, excluding Federal holidays and facility closures due to COVID-19.

SUPPLEMENTARY INFORMATION: On September 27, 2022, the EPA published a direct final rule (87 FR 58453). The State of Michigan submitted this revision as a modification to the SIP on March 22, 2022. In the direct final rule, EPA stated that if adverse comments were submitted by October 27, 2022, the rule would be withdrawn and not take effect. On October 27, 2022, EPA received a comment. EPA believes this comment is adverse and, therefore, EPA is withdrawing the direct final rule. EPA will address the comment in a subsequent final action based upon the proposed action also published on September 27, 2022 (87 FR 58471). EPA will not institute a second comment period on this action.

List of Subjects in 40 CFR Part 52

Environmental protection, Air pollution control, Carbon monoxide, Incorporation by reference, Lead, Nitrogen dioxide, Ozone, Particulate matter, Reporting and recordkeeping requirements, Sulfur oxides, Volatile organic compounds.

Authority: 42 U.S.C. 7401 et seq.

Dated: November 4, 2022.
Debra Shore,
Regional Administrator, Region 5.

PART 52—APPROVAL AND PROMULGATION OF IMPLEMENTATION PLANS

Accordingly, the amendment to 40 CFR 52.1170 published in the Federal Register on September 27, 2022 (87 FR 58453) is withdrawn as of November 15, 2022.

[FR Doc. 2022-24688 Filed 11-14-22; 8:45 am]

BILLING CODE 6560-50-P